DEPARTMENT OF THE INTERIOR

National Park Service

[5298-AM43-EXR]

Notice of Intent To Prepare an Environmental Impact Statement for the Acquisition of Land Currently Owned by Florida Power and Light Company in Everglades National Park, Florida

AGENCY: National Park Service, Department of the Interior.

ACTION: Notice of Intent to Prepare an Environmental Impact Statement for the acquisition of land currently owned by Florida Power and Light Company in Everglades National Park, Florida.

SUMMARY: In June 2009, the National Park Service (NPS) initiated public scoping for an environmental assessment (EA) that was being prepared in accordance with the National Environmental Policy Act of 1969 (NEPA), as amended, to evaluate the environmental impacts of a potential land acquisition or exchange between NPS and Florida Power and Light Company (FPL) in Everglades National Park (Park). The NPS decision to be made at the conclusion of the process was to have been whether to exchange NPS lands for FPL's lands within the boundary of the Park or to acquire FPL's lands by purchase or eminent domain. After careful consideration of the issues and analysis developed during the EA process, the NPS has determined that there is potential for significant impacts to the human environment from this decision, and NPS therefore intends to prepare an environmental impact statement (EIS). This notice initiates the public scoping process to solicit public comments and identify issues regarding the potential land acquisition or land exchange in the Park.

DATES: Interested individuals, organizations, and agencies are encouraged to provide written comments or suggestions to assist the NPS in determining the scope of issues to be addressed in the EIS, identifying significant issues related to the potential land acquisition or exchange, identifying conditions for the exchange, and identifying other reasonable alternatives. The NPS will conduct a public scoping meeting to be held in Miami-Dade County. When the public scoping meeting has been scheduled, its location, date, and time will be published in local media and on the NPS's Planning, Environment and Public comment Web site: http://parkplanning.nps.gov/ever. The scoping meeting will also be announced via a park press release and through e-mail notification to the individuals and organizations on the park's mailing list. Written comments must be received prior to the close of the scoping period or 15 days after the last public meeting, whichever is later. The NPS will provide additional opportunities for public participation upon publication of the draft EIS.

ADDRESSES: If you wish to provide scoping comments or suggestions, you may submit your comments by any one of several methods. The preferred method for submitting comments is via the internet at http://parkplanning.nps.gov/ever. Select “Acquisition of Florida Power and Light Company Lands in the East Everglades Expansion Area” to reach the comment site. Written comments may also be sent to: National Park Service, Denver Service Center—Planning Division, Attn: FPL Project Planning Team, P.O. Box 25287, Denver, CO 80225-0287.

Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety.

SUPPLEMENTARY INFORMATION: Everglades National Park was established on December 6, 1947. Subsequently the Everglades National Park Protection and Expansion Act of 1989 (the 1989 Act): (1) Expanded the boundaries of the Park to include approximately 107,600 acres, and through the 1989 Act and additional legislation, authorized the NPS and U.S. Army Corps of Engineers (ACOE) to acquire lands within the designated area, which is known as the Everglades National Park Expansion Area (ENP Expansion Area); and (2) authorized the Secretary of the Army to modify the Central and Southern Florida Project to provide for the restoration of more natural water flow and habitat to and within the Park. The ENP Expansion Area includes property owned by FPL since the 1960's and early 1970's (FPL Property). The FPL Property is approximately 7.4 miles in length (North-South), 330 feet to 370 feet wide, and encompasses approximately 320 acres. More recently, the Omnibus Public Land Management Act of 2009 specifically authorized the Secretary of Interior to acquire the FPL Property in exchange for other lands in the Park. The property proposed for the exchange consists of approximately 260 acres within and along the eastern boundary of the ENP Expansion Area with an additional easement over approximately 90 acres in the Park for the control of non-native vegetation.

To implement the land acquisition provisions of the 1989 Act, the Park developed a Land Protection Plan in 1991 (the LPP). The LPP determined the need for acquisition of lands necessary to assure the enhancement and restoration of natural hydrologic conditions in the area and to manage the area to maintain natural abundance, diversity, and ecological integrity of native plants and animals. To implement the restoration of flow provisions of the 1989 Act, the ACOE issued a 1992 General Design Memorandum and related updates concerning the project modifications necessary to achieve more natural water flow. The latest of these modifications is the construction of a one-mile bridge on the Tamiami Trail, which is scheduled to be complete in 2013. Related to the construction of the one-mile bridge and the broad restoration objectives in the Act, the ACOE will develop an operational plan to provide a more natural flow of water to the ENP Expansion Area. The additional water flow that will result from implementation of this plan cannot be achieved until lands that FPL owns in Everglades National Park are acquired.

As a related but distinct matter, FPL is seeking approval, through the Nuclear Regulatory Commission (NRC), ACOE, and the State of Florida, to construct two additional nuclear reactors at its Turkey Point facility, immediately adjacent to Biscayne National Park in south Florida. The NRC is currently preparing an EIS for a new FPL license for the proposed reactors. The FPL is also seeking certification from the Florida Department of Environmental Protection of new transmission corridors, including a West Preferred Corridor, for transmission of electricity from the Turkey Point Facility to destinations in south Florida. The current FPL proposal for the West Preferred Corridor includes the potential construction of three electrical transmission lines on the FPL Property in the ENP Expansion Area or on the NPS lands that would be conveyed to FPL by the proposed exchange.

Having determined that utilization of the FPL property for an electrical transmission corridor in its current location is contrary to the LPP and intended purposes of the ENP Expansion Area, the NPS began an analysis of the potential land acquisition or exchange in an EA in June 2009. Following public scoping and review of the preliminary EA findings, NPS identified potential environmental impacts associated with the reasonably foreseeable construction of transmission lines on the exchange lands. After careful consideration of the issues and analysis developed during the EA process, the NPS has determined that implementation of a land exchange with FPL could result in potential significant impacts to the human environment and that an EIS will be prepared. The EIS will examine the environmental impacts of transmission lines on the proposed exchange property as well as the foreseeable environmental impacts of the alternative actions.

The NPS has identified three potential alternatives for analysis in the EIS. The first alternative, land exchange with conditions, would evaluate the effects of the statutorily-authorized land exchange and consider appropriate conditions for the exchange. Direct effects of the changes in land ownership would probably be minimal, but the cumulative effects analysis would evaluate the potential effects of power line construction and maintenance for utility corridor purposes on the exchange lands. The second alternative, acquisition/condemnation, would evaluate the effects of acquiring or condemning FPL's property in the park, and thereby removing the potential for power line construction on the FPL property or on the proposed exchange property. Inclusion of this alternative will assist in determining a baseline of existing impacts for comparison with the impacts of other alternatives. The third alternative, no acquisition or exchange, would evaluate the effects as if there were no change in the status of the FPL Property and would assume that the status quo of FPL ownership is maintained. The cumulative effects analysis would evaluate the foreseeable effects if power lines were constructed on the FPL Property through the Park.

FOR FURTHER INFORMATION CONTACT: Information about the proposed action, the EIS, and the scoping process may be obtained from Mr. Brien Culhane at Everglades National Park by phone at 305-242-7717 or via e-mail at Brien_Culhane@nps.gov. Additional information, including maps of the FPL Property and proposed transmission corridors, can be found on the NPS Planning, Environment, and Public Comment (PEPC) Web site, http://parkplanning.nps.gov/ever. Select “Acquisition of Florida Power and Light Company Lands in the East Everglades Expansion Area.”

Authority: The authority for publishing this notice is contained in 40 CFR 1506.6

The responsible official for this Notice of Intent is the Regional Director, Southeast Region, NPS, 100 Alabama Street, SW., 1924 Building, Atlanta, Georgia 30303.

Dated: May 19, 2011.
Gordon Wissinger,
Acting Regional Director, Southeast Region.

[FR Doc. 2011-13114 Filed 5-25-11; 8:45 am]

BILLING CODE 4310-XH-P